DEPARTMENT OF HEALTH AND HUMAN SERVICES

Administration for Children and Families

Submission for OMB Review; Comment Request

Title: Cross-Site Evaluation of the Children's Bureau Grantee Cluster: Supporting Evidence-Based Home Visiting Programs to Prevent Child Maltreatment (EBHV).

OMB No.: New collection.

Description: The Administration for Children and Families (ACF), U.S. Department of Health and Human Services (HHS), is proposing this cross-site evaluation data collection activity to identify successful strategies for adopting, implementing, and sustaining high-quality home visitation programs to prevent child maltreatment. An evaluation study will address four domains: (1) Systems change to develop infrastructure, (2) fidelity to evidence-based models, (3) costs of home visiting programs, and (4) family and child outcomes (via a review of grantee analysis reports). A process study will focus on the broader grant initiative to understand how programs plan and develop the infrastructure needed to support home visitation services and how they ensure service quality.

Information will be collected through biennial site visits, web-based data entry, a data quality progress table, a relationship questionnaire completed by participants and home visitors, and a grantee-partner network survey. In particular, site visits will include interviews with key grantee staff and stakeholders involved in the execution of the grant and in the efforts to make system changes. Grantees will complete systems web-based data entry on goals and operations every six months while agencies implementing home visiting programs associated with the grantee will utilize the fidelity/cost web-based data entry to provide EBHV program, provider, and participant characteristics along with yearly data on costs of home visiting programs.

Respondents: EBHV grantee and key staff (evaluators, home visitors and supervisors), partners, implementing agencies, home visiting participants, and home visitors.

Annual Burden Estimates
Instrument | Annual number of respondents | Number of responses per respondent | Average burden hour per response | Estimated annual burden hours
EBHV grantee and key staff-partner interview guide | 249 | 2 | 1.60 | 797
EBHV grantee systems web-based data entry | 17 | 2 | 1.00 | 34
EBHV agency fidelity/cost web-based data entry | 50 | 12 | 9.00 | 5,400
EBHV grantee data quality progress table | 17 | 4 | 4.25 | 289
Participant-home visitor relationship questionnaire | 4,716 | 2 | 0.25 | 2,358
Home visitor-participant relationship questionnaire | 4,716 | 2 | 0.25 | 2,358
EBHV grantee-partner network survey | 142 | 2 | 0.42 | 119
Estimated Total Burden Hours |  |  |  | 11,355

Additional Information: Copies of the proposed collection may be obtained by writing to the Administration for Children and Families, Office of Planning, Research and Evaluation, 370 L'Enfant Promenade, SW., Washington, DC 20447, Attn: OPRE Reports Clearance Officer. All requests should be identified by the title of the information collection. E-mail address: OPREinfocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Fax: 202-395-6974, Attn: Desk Officer for the Administration for Children and Families.

Dated: October 14, 2009.
Seth F. Chamberlain,
OPRE Reports Clearance Officer.

[FR Doc. E9-25259 Filed 10-23-09; 8:45 am]

BILLING CODE 4184-01-M